DEPARTMENT OF THE INTERIOR

Bureau of Land Management

[NV-065-5870-EU; N-76533]

Notice of Realty Action: Competitive Sale of Public Land; Nye County, NV

AGENCY: Bureau of Land Management, Interior.

ACTION: Notice of Realty Action.

SUMMARY: A single 39.73 acre parcel of Federal public land located in northwest Beatty, Nye County, Nevada, has been examined and found suitable for sale utilizing competitive sale procedures. The authority for the sale is Sections 203 and 209 of the Federal Land Policy and Management Act of 1976 (FLPMA) (43 U.S.C. 1701, 1713 and 1719).

DATES: Comments regarding the proposed sale or the environmental assessment (EA) must be received by the Bureau of Land Management (BLM) on or before October 30, 2006. In order to purchase the offered land, BLM will accept sealed bids from bidders up to November 14, 2006, and accept oral bids at a public auction scheduled November 15, 2006.

ADDRESSES: Comments regarding the proposed sale or EA, as well as sealed bids, submitted to BLM, should be addressed to the Assistant Field Manager, BLM, Tonopah Field Station, 1553 South Main Street, P.O. Box 911, Tonopah, Nevada 89049. The address for oral bidding registration, and where the public auction will be held is: Beatty Community Center, 100 “A” Avenue So., Beatty, Nevada 89003.

FOR FURTHER INFORMATION CONTACT: Information regarding the competitive sale instructions, procedures, documents, maps, and materials to submit a bid can be obtained at the public reception desk at the BLM, Tonopah Field Station from 7:30 a.m. to 4:30 p.m., Monday through Friday (except Federal holidays), or by contacting Wendy Seley, Realty Specialist, at the above address, or at (775) 482-7800 or by e-mail at wseley@nv.blm.gov. For general information on BLM's public land sale procedures, refer to the following Web address: http://www.blm.gov/nhp/what/lands/realty/sales.htm

SUPPLEMENTARY INFORMATION: The land is located one mile northwest of Beatty, Nevada, and has physical and legal access via a well maintained asphalt road to the south (N-45241), a dirt road to the west, and a county-maintained gravel road which traverses the east side.

Mount Diablo Meridian, Nevada

T. 12 S., R. 47 E., sec. 6, lot 7.

The area described contains 39.73 acres, more or less, in Nye County.

This parcel of public land, northwest of Beatty, Nevada, is being offered for sale, at no less than the appraised fair market value (FMV) of $220,000.00, as determined by the authorized officer after appraisal. An appraisal report has been prepared by a state certified appraiser for the purposes of establishing FMV.

The land is not required for Federal purposes and was identified for disposal in the Tonopah Resource Management Plan, approved on October 2, 1997, and therefore, meets the disposal qualification of Section 205 of the Federal Land Transaction Facilitation Act of July 25, 2000 (43 U.S.C. 2304) (hereinafter FLTFA).

Increasingly, the BLM has had to address the needs of a growing and changing West, in particular to the community expansion and economic needs of Beatty, Nevada. These lands are proposed to be put up for purchase and sale by competitive auction in accordance with Section 205 of FLTFA, the applicable provisions of FLPMA Section 203, and its implementing regulations found at 43 CFR 2710 and part 2720. The proceeds from the sale of the land will be deposited into the Federal Land Disposal Account for Nevada pursuant to FLTFA.

These lands meet the criteria for sale under 43 CFR 2710.0-3(a)(2) in that the disposal (sale) of the parcel would serve important public objectives which cannot be achieved prudently or feasibly elsewhere by making lands available for community expansion and private economic development. The land contains no other known public values. The subject parcel has not been identified for transfer to the State or any other local government or nonprofit organization. The parcel will be offered through competitive sale procedures pursuant to 43 CFR 2711.3-1.

As stated, both sealed bids and oral bids will be accepted in conducting this sale. Sealed bids must be received by the BLM not later than 4:30 p.m. PDT, November 14, 2006. Sealed bid opening is to begin at 10 a.m., PDT November 15, 2006. The subject land proposed for sale will be put up for purchase and sale, at public auction, beginning at 10 a.m., PDT, November 15, 2006. Registration for oral bidding will begin at 8 a.m. PDT, November 15, 2006. The public auction will begin at 10 a.m., PDT November 15, 2006.

Pursuant to 43 CFR 2711.3-1(c), each sealed bid shall be accompanied by a certified check, postal money order, bank draft or cashier's check made payable to the Bureau of Land Management, for not less than 20 percent of the amount of the sealed bid. Sealed bid opening will begin at 10 a.m. PDT, November 15, 2006, at the Beatty Community Center, located at 100 “A” Avenue, So., Beatty, Nevada 89003. The highest qualified sealed bid will become the starting bid at the oral auction, provided it is higher than the approved, appraised FMV. If no sealed bids are received, oral bidding will begin at the FMV, as determined by the authorized officer. The parcel will be put up for competitive sale by oral auction beginning at 10:00 a.m. PDT, November 15, 2006, at the Beatty Community Center, located at 100 “A” Avenue, So., Beatty, Nevada 89003.

If, as a result of a sealed bid you presented to BLM prior to the auction, you were not declared the high-bidder, your check will be returned to you at the auction upon proof of identification. If you do not attend the auction, your check will be returned according to your instructions.

The highest qualifying bid, whether sealed or oral, in excess of the appraised fair market value, will be declared the high bid. The apparent high bidder, if an oral bidder, must submit a deposit pursuant to 43 CFR 2711.3-1(d), which is not less than one-fifth (20%) of the apparent high bid, by 2 p.m. PDT, on the day of the sale in the form of cash, personal check, bank draft, cashier's check, money order or any combination thereof, made payable in U.S. dollars to the Bureau of Land Management. Payment must be made at the Beatty Community Center, 100 “A” Avenue So., Beatty, Nevada 89003.

Other deadline dates for the receipt of payments, and arranging for certain payments to be made by electronic transfer, are specified below.

The BLM provided a 30-day comment period for the preliminary EA as part of its public involvement. All comments received have been considered and incorporated into the EA and Decision Record. The environmental assessment, EA Number NV065-EA06-071, Decision Record, Environmental Site Assessment, map, and approved appraisal report covering the proposed sale, are available for review at the BLM, Tonopah Field Station, Tonopah, Nevada.

If the parcel of land is sold, the locatable mineral interests of no known value therein will be sold simultaneously as part of the sale. The unreserved mineral interests have been determined to have no known mineral value pursuant to 43 CFR 2720.2(a). An offer to purchase the parcel at auction will constitute an application for conveyance of the locatable mineral interests. In conjunction with the final payment, the applicant will be required to pay a $50.00 non-refundable filing fee for processing the conveyance of the locatable mineral interests.

Segregation: Publication of this Notice in the Federal Register segregates the subject lands from all appropriations under the public land laws, including the general mining laws, except sale under the Federal Land Policy and Management Act of 1976. The segregation will terminate upon issuance of the patent, upon publication in the Federal Register of a termination of the segregation or June 11, 2007, whichever occurs first.

Terms and Conditions of Sale: Upon successful completion of the sale, the patent issued would contain the following numbered reservations, covenants, terms and conditions:

1. Oil, gas, and geothermal resources are reserved on the land sold; permittees, licensees, and lessees retain the right to prospect for, mine, and remove the minerals owned by the United States under applicable law and any regulations that the Secretary of the Interior may prescribe, including all necessary access and exit rights.

2. A right-of-way thereon for ditches and canals constructed by authority of the United States, Act of August 30, 1890 (43 U.S.C. 945).

3. A right-of-way authorized under the Act of October 21, 1976, 90 Stat. 2776 (43 U.S.C. 1761) for an access road granted to Nye County, its successor or assignees, by right-of way NVN-45241.

4. The parcel is subject to valid existing rights.

5. The purchaser/patentee, by accepting the patent, agrees to indemnify, defend, and hold the United States harmless from any costs, damages, claims, causes of action, penalties, fines, liabilities, and judgments of any kind arising from the past, present, or future acts or omissions of the patentee, its employees, agents, contractors, or lessees, or a third party arising out of, or in connection with, the patentee's use and/or occupancy of the patented real property resulting in: (1) Violations of Federal, state, and local laws and regulations that are now, or in the future become, applicable to the real property; (2) judgments, claims, or demands of any kind assessed against the United States; (3) costs, expenses, or damages of any kind incurred by the United States; (4) releases or threatened releases of solid or hazardous waste(s) and/or hazardous substance(s), as defined by Federal or state environmental laws, off, on, into, or under land, property, and other interests of the United States; (5) other activities by which solids or hazardous substances or wastes, as defined by Federal and state environmental laws are generated, released, stored, used, or otherwise disposed of on the patented real property, and any cleanup response, remedial action, or other actions related in any manner to said solid or hazardous substances or wastes; or (6) natural resource damages as defined by Federal and state law. This covenant shall be construed as running with the patented real property and may be enforced by the United States in a court of competent jurisdiction.

6. Pursuant to the requirements established by section 120(h) of the Comprehensive Environmental Response, Compensation and Liability Act (CERCLA), (42 U.S.C. 9620(h)), as amended by the Superfund Amendments and Reauthorization Act of 1988, (100 Stat.1670), notice is hereby given that the above-described lands have been examined and no evidence was found to indicate that any hazardous substances has been stored for one year or more, nor had any hazardous substances been disposed of or released on the subject property.

No warranty of any kind, express or implied, is given by the United States as to the title, physical condition or potential uses of the parcel of land proposed for sale, and the conveyance of any such parcel will not be on a contingency basis. It is the buyer's responsibility to be aware of all applicable federal, State, or local government laws, regulations, or policies that may affect the subject lands or its future uses. It is also the buyer's responsibility to be aware of existing or prospective uses of nearby properties. Any land lacking access from a public road or highway will be conveyed as such, and future access acquisition will be the responsibility of the buyer.

Because Nye County does not have a habitat conservation plan (HCP) in effect for desert tortoise habitat, BLM wants to inform the bidder/buyer that he/she may be required to complete an individual HCP, and acquire a Section 10 Incidental Take Permit under the Endangered Species Act from the U.S. Fish and Wildlife Service for surface disturbing activities following transfer of title.

The successful bidder must submit the remainder of the full bid price, whether sealed or oral, within 180 calendar days of the competitive sale date in the form of a certified check, money order, bank draft, or cashier's check made payable in U.S. dollars to the Bureau of Land Management. Personal checks will not be accepted. Arrangements for Electronic Fund Transfer (EFT) to BLM for the balance which is due on or before May 14, 2007, must be made a minimum of 2 weeks prior to the date you wish to make payment. Failure to pay the full bid price within the 180 days will disqualify the apparent high bidder and cause the entire bid deposit to be forfeited to the BLM under 43 CFR 2711.3-1(d).

If not sold, the parcel described above in this Notice may be identified for sale at a later date and/or at another location without further legal notice.

Federal law requires bidders to be U.S. citizens 18 years of age or older, a corporation subject to the laws of any State or of the United States; a State, State instrumentality, or political subdivision authorized to acquire and own real property, or an entity including, but not limited to, associations or partnerships legally capable of holding property or interests therein under the laws of the State of Nevada. Certification of bidder qualification must accompany the bid deposit.

Public Comments: The subject parcel of land will not be offered for sale prior to the 60-day publication of this notice of realty action. For a period until October 30, 2006, interested parties may submit written comments to the BLM Tonopah Field Station, P.O. Box 911, Tonopah, Nevada 89049. Facsimiles, telephone calls, and electronic mails are unacceptable means of notification. Comments including names and street addresses of respondents will be available for public review at the BLM Tonopah Field Station during regular business hours, except holidays. Individual respondents may request confidentiality. If you wish to withhold your name or address from public disclosure under the Freedom of Information Act, you must state this prominently at the beginning of your comments. Any determination by the BLM to release or withhold the names and/or addresses of those who comment will be made on a case-by-case basis. Such requests will be honored to the extent allowed by law.

Any adverse comments will be reviewed by the Nevada State Director, who may sustain, vacate, or modify this realty action and issue a final determination. In the absence of timely filed objections, this realty action will become the final determination of the Department of the Interior.

(Authority: 43 CFR. 2711.1-2(a) and (c))

Dated: August 10, 2006.
William S. Fisher,
Assistant Field Manager, Tonopah.

[FR Doc. E6-15219 Filed 9-13-06; 8:45 am]

BILLING CODE 4310-HC-P